FEDERAL COMMUNICATIONS COMMISSION

47 CFR Parts 0, 1, 4, 5, 12, 13, 17, 42, 43, 52, 53, 61, 63, 64, 73, 78, 80, 90, and 97

[MD Docket No. 18-285; DA 18-976]

Nonsubstantive, Editorial Revisions of Rules and Regulations To Correct Authority Citations

AGENCY: Federal Communications Commission.

ACTION: Final rule.

SUMMARY: In this document, the Federal Communications Commission makes non-substantive revisions to authority citations in its regulations. These authority citations are required by the rules of the Administrative Committee of the Federal Register, and their format is prescribed by the Document Drafting Handbook of the Office of the Federal Register. Certain of the authority citations currently in the Commission's rules may not conform to those specifications.

DATES: This rule is effective September 28, 2018.

ADDRESSES: Federal Communications Commission, 445 12th Street SW, Washington, DC 20554.

FOR FURTHER INFORMATION CONTACT: Douglas A. Klein, Office of General Counsel, at (202) 418-1720.

SUPPLEMENTARY INFORMATION: This is a summary of the Order adopted by the Commission's Managing Director, DA 18-976, adopted on September 21, 2018, and released on September 21, 2018. The full text of this document is available for public inspection during regular business hours in the FCC Reference Center, Room CY-A257, 445 12th Street SW, Washington, DC 20554, or at https://www.fcc.gov/edocs.

1. In this Order, the Managing Director makes non-substantive revisions to authority citations in title 47 of the Code of Federal Regulations. These authority citations are required by the rules of the Administrative Committee of the Federal Register (ACFR), and their format is prescribed by the Document Drafting Handbook of the Office of the Federal Register. Certain of the authority citations currently in the Commission's rules may not conform to those specifications.

2. The changes effected by this Order are intended only to bring the authority citations into conformance with the ACFR regulations and Document Drafting Handbook of the Office of the Federal Register. None of these changes should be construed to change the substantive requirements of the affected rules or the sources of Commission authority for those requirements.

3. Regulatory Flexibility Act. Because we adopt this Order without notice and comment, the Regulatory Flexibility Act (RFA) does not apply.

4. Paperwork Reduction Act. The Order does not contain new or modified information collection requirements subject to the Paperwork Reduction Act of 1995 (PRA), Public Law 104-13. In addition, therefore, it does not contain any new or modified “information collection burden for small business concerns with fewer than 25 employees,” pursuant to the Small Business Paperwork Relief Act of 2002.

5. Congressional Review Act. Because this Order affects only rules of agency organization, procedure, or practice and does not substantially affect the rights or obligations of non-agency parties, it is not subject to the Congressional Review Act.

6. Petitions for reconsideration pursuant to 47 CFR 1.429 or applications for review pursuant to 47 CFR 1.115 of this Order may be filed within thirty days of publication of a summary of this Order in the Federal Register. Should no petitions for reconsideration or applications for review be timely filed, this proceeding shall be terminated and its docket closed.

7. Accordingly, it is ordered that, pursuant to the authority contained in sections 4(i), 4(j), and 5 of the Communications Act of 1934, as amended, 47 U.S.C. 154(i), 154(j), 155, and § 0.231(b) of the rules of the Federal Communications Commission, 47 CFR 0.231(b), this Order is adopted, effective immediately upon publication in the Federal Register.

8. It is further ordered that title 47 of the Code of Federal Regulations is amended as set forth in the regulatory text hereto.

List of Subjects

47 CFR Part 0

Classified information, Freedom of information, Government publications, Infants and children, Organization and functions (Government agencies), Postal Service, Privacy, Reporting and recordkeeping requirements, Sunshine Act.

47 CFR Part 1

Administrative practice and procedure, Civil rights, Claims, Communications common carriers, Cuba, Drug abuse, Environmental impact statements, Equal access to justice, Equal employment opportunity, Federal buildings and facilities, Government employees, Income taxes, Indemnity payments, Individuals with disabilities, Investigations, Lawyers, Metric system, Penalties, Radio, Reporting and recordkeeping requirements, Telecommunications, Television, Wages.

47 CFR Part 5

Radio, Reporting and recordkeeping requirements.

47 CFR Part 12

Communications equipment, Security measures.

47 CFR Part 13

Radio

47 CFR Part 17

Aviation safety, Communications equipment, Reporting and recordkeeping requirements.

47 CFR Part 42

Communications common carriers, Radio, Reporting and recordkeeping requirements, Telegraph, Telephone.

47 CFR Part 43

Communications common carriers, Radio, Reporting and recordkeeping requirements, Telephone.

47 CFR Part 52

Communications common carriers, Telecommunications, Telephone.

47 CFR Part 53

Accounting, Communications common carriers, Reporting and recordkeeping requirements, Telephone.

47 CFR Part 61

Communications common carriers, Radio, Reporting and recordkeeping requirements, Telegraph, Telephone.

47 CFR Part 64

Claims, Communications common carriers, Computer technology, Credit, Foreign relations, Individuals with disabilities, Political candidates, Radio, Reporting and recordkeeping requirements, Telecommunications, Telegraph, Telephone.

47 CFR Part 73

Civil defense, Communications equipment, Defense communications, Education, Equal employment opportunity, Foreign relations, Mexico, Political candidates, Radio, Reporting and recordkeeping requirements, Television.

47 CFR Part 78

Cable television, Communications equipment, Radio, Reporting and recordkeeping requirements, Television.

47 CFR Part 80

Alaska, Communications equipment, Great Lakes, Marine safety, Radio, Reporting and recordkeeping requirements, Telegraph, Telephone, Vessels.

47 CFR Part 90

Administrative practice and procedure, Business and industry, Civil defense, Common carriers, Communications equipment, Emergency medical services, Individuals with disabilities, Radio, Reporting and recordkeeping requirements.

47 CFR Part 97

Aliens, Civil defense, Communications equipment, Radio, Reporting and recordkeeping requirements, Satellites, Volunteers.

Federal Communications Commission.
Mark Stephens,
Managing Director.

For the reasons discussed in the preamble, the Federal Communications Commission amends 47 CFR chapter I as follows:

PART 0—COMMISSION ORGANIZATION

1. The authority citation for part 0 is revised to read as follows:

Authority: 47 U.S.C. 155, 225, unless otherwise noted.

PART 1—PRACTICE AND PROCEDURE

2. The authority citation for part 1 is revised to read as follows:

Authority: 47 U.S.C. chs. 2, 5, 9, 13; Sec. 102(c), Div. P, Public Law 115-141, 132 Stat. 1084; 28 U.S.C. 2461, unless otherwise noted.

PART 4—DISRUPTIONS TO COMMUNICATIONS

3. The authority citation for part 4 is revised to read as follows:

Authority: 47 U.S.C. 151, 154(i)-(j) & (o), 251(e)(3), 254, 301, 303(b), 303(g), 303(r), 307, 309(a), 309(j), 316, 332, 403, 615a-1, 615c, 1302, unless otherwise noted.

PART 5—EXPERIMENTAL RADIO SERVICE

4. The authority citation for part 5 is revised to read as follows:

Authority: 47 U.S.C. 154, 301, 302, 303, 307, 336.

PART 12—RESILIENCY, REDUNDANCY AND RELIABILITY OF COMMUNICATIONS

5. The authority citation for part 12 is revised to read as follows:

Authority: 47 U.S.C. 151, 154(i), 154(j), 154(o), 155(c), 201(b), 214(d), 218, 219, 251(e)(3), 301, 303(b), 303(g), 303(j), 303(r), 307, 309(a), 316, 332, 403, 405, 615a-1, 615c, 621(b)(3), 621(d), unless otherwise noted.

PART 13—COMMERCIAL RADIO OPERATORS

6. The authority citation for part 13 is revised to read as follows:

Authority: 47 U.S.C. 154, 303.

PART 17—CONSTRUCTION, MARKING, AND LIGHTING OF ANTENNA STRUCTURES

7. The authority citation for part 17 is revised to read as follows:

Authority: 47 U.S.C. 154, 301, 303, 309.

PART 42—PRESERVATION OF RECORDS OF COMMUNICATION COMMON CARRIERS

8. The authority citation for part 42 is revised to read as follows:

Authority: 47 U.S.C. 154(i), 219, 220.

PART 43—REPORTS OF COMMUNICATION COMMON CARRIERS, PROVIDERS OF INTERNATIONAL SERVICES AND CERTAIN AFFILIATES

9. The authority citation for part 43 is revised to read as follows:

Authority: 47 U.S.C. 35-39, 154, 211, 219, 220; sec. 402(b)(2)(B), (c), Pub. L. 104-104, 110 Stat. 129.

PART 52—NUMBERING

10. The authority citation for part 52 is revised to read as follows:

Authority: 47 U.S.C. 151, 152, 153, 154, 155, 201-205, 207-209, 218, 225-227, 251-252, 271, 332, unless otherwise noted.

PART 53—SPECIAL PROVISIONS CONCERNING BELL OPERATING COMPANIES

11. The authority citation for part 53 is revised to read as follows:

Authority: 47 U.S.C. 151-155, 157, 201-205, 218, 251, 253, 271-275, unless otherwise noted.

PART 61—TARIFFS

12. The authority citation for part 61 is revised to read as follows:

Authority: 47 U.S.C. 151, 154(i), 154(j), 201-205, 403, unless otherwise noted.

PART 63—EXTENSION OF LINES, NEW LINES, AND DISCONTINUANCE, REDUCTION, OUTAGE AND IMPAIRMENT OF SERVICE BY COMMON CARRIERS; AND GRANTS OF RECOGNIZED PRIVATE OPERATING AGENCY STATUS

13. The authority citation for part 63 is revised to read as follows:

Authority: 47 U.S.C. 151, 154(i), 154(j), 160, 201-205, 214, 218, 403, 571, unless otherwise noted.

PART 64—MISCELLANEOUS RULES RELATING TO COMMON CARRIERS

14. The authority citation for part 64 is revised to read as follows:

Authority: 47 U.S.C. 154, 201, 202, 217, 218, 220, 222, 225, 226, 227, 228, 251(a), 251(e), 254(k), 262, 403(b)(2)(B), (c), 616, 620, 1401-1473, unless otherwise noted.

PART 73—RADIO BROADCAST SERVICES

15. The authority citation for part 73 is revised to read as follows:

Authority: 47 U.S.C. 154, 155, 301, 303, 307, 309, 310, 334, 336, 339.

§ 73.51 [Amended]

16. The sectional authority citation for § 73.51 is removed.

§ 73.69 [Amended]

17. The sectional authority citation for § 73.69 is removed.

PART 78—CABLE TELEVISION RELAY SERVICE

18. The authority citation for part 78 is revised to read as follows:

Authority: 47 U.S.C. 152, 153, 154, 301, 303, 307, 308, 309.

PART 80—STATIONS IN THE MARITIME SERVICES

19. The authority citation for part 80 is revised to read as follows:

Authority: 47 U.S.C. 151-155, 301-609; 3 U.S.T. 3450, 3 U.S.T. 4726, 12 U.S.T. 2377.

PART 90—PRIVATE LAND MOBILE RADIO SERVICES

20. The authority citation for part 90 is revised to read as follows:

Authority: 47 U.S.C. 154(i), 161, 303(g), 303(r), 332(c)(7), 1401-1473

PART 97—AMATEUR RADIO SERVICE

21. The authority citation for part 97 is revised to read as follows:

Authority: 47 U.S.C. 151-155, 301-609, unless otherwise noted.

[FR Doc. 2018-21198 Filed 9-27-18; 8:45 am]

BILLING CODE 6712-01-P